DEPARTMENT OF DEFENSE

Office of the Secretary

Defense Science Board

AGENCY: Department of Defense.

ACTION: Notice of advisory committee meeting date changes.

SUMMARY: On Thursday, June 19, 2003 (68 FR 36772), the Department of Defense announced closed meetings of the Defense Science Board Task Force on Enabling Joint Force Capabilities. The September 2, 2003, meeting has moved to September 22, 2003, at the Joint Forces Command; and the September 22, 2003, meeting has moved to September 29, at the Institute for Defense Analyses. In addition, the September 8, 2003, meeting has moved to September 9, 2003, as announced on Wednesday, July 23, 2003 (68 FR 43498).

September 4, 2003.
Patricia L. Toppings,
Alternate OSD Federal Register Liaison Officer, Department of Defense.

[FR Doc. 03-23006 Filed 9-9-03; 8:45 am]

BILLING CODE 5001-08-M